DEPARTMENT OF COMMERCE

International Trade Administration

Ports and Marine Technology Trade Mission to India

February 2-6, 2015.

AGENCY: International Trade Administration, Department of Commerce.

ACTION: Amendment.

SUMMARY: The United States Department of Commerce, International Trade Administration, Industry and Analysis is amending the notice published at 79 FR 24674, May 1, 2014, for the India Ports and Marine Technology Trade Mission to India to notify potential U.S. delegates that the trade mission application deadline is extended to November 21, 2014 and to add a second optional stop to an Eastern port, Visakhapatnam (Vizag), India. The fee for the optional stop to Vizag will be $700 per participant for the first representative and $200 for any additional representative, provided there are a number of 5 participants traveling to Vizag.

SUPPLEMENTARY INFORMATION: Amendment to Revise the Application Deadline and add an optional stop

Background

Recruitment for this Mission began in February 28, 2014.

In addition, since recruitment commenced, new opportunities have been identified for American firms in Vizag, India. Recruitment for the mission will continue, and conclude on November 21, 2014. The U.S. Department of Commerce will review applications and make selection decisions on a rolling basis until the maximum of 20 participants is selected. Applications received after November 21, 2014, will be considered only if space and scheduling constraints permit.

Amendments

For the reasons stated above, the last paragraph of the Timeframe for Recruitment and Application section of the notice 79 FR 24674, May 1, 2014, for the India Ports and Marine Technology Trade Mission to India is amended to allow for applications to be accepted to November 21, 2014. “Recruitment for this mission will conclude no later than November 21, 2014. The U.S. Department of Commerce will review applications and make selection decisions on a rolling basis until the maximum of 20 participants is selected. Applications received after November 21, 2014, will be considered only if space and scheduling constraints permit.

For the reasons stated above, the Optional Visit to Goa section of the Notice 79 FR 24674, May 1, 2014, for the India Ports and Marine Technology Trade Mission to India, are amended as follows:

The header will read: Optional Visit to Goa and Visakhapatnam (Vizag). For an additional fee, participants in the mission can visit the port of Vizag, an Eastern port of India. The port city, often called “The Jewel of the East Coast” faces the Bay of Bengal.

For the reason stated above, the Fees and Expenses, section of the Notice 79 FR 24674, May 1, 2014, for the India Ports and Marine Technology Trade Mission to India, are amended as follows:

• The fee for the optional stop to Vizag will be $700 per participant for the first representative and $200 for any additional representative, provided there are a number of 5 participants traveling to Vizag.

FOR FURTHER INFORMATION CONTACT:

Hector Rodriguez,

Office of Industry and Analysis,

Trade Promotion Programs,

Phone: 202-482-0629; Fax: 202-482-9000,

Email: Hector.Rodriguez@trade.gov.

Frank Spector,
Acting Director—Trade Missions.

[FR Doc. 2014-27401 Filed 11-18-14; 8:45 am]

BILLING CODE 3510-DR-P